DEPARTMENT OF THE INTERIOR

Bureau of Indian Affairs

Rumsey Indian Rancheria of Wintun Indians of California Ordinance for the Sale and Consumption of Alcoholic Beverages

AGENCY: Bureau of Indian Affairs, Interior.

ACTION: Notice.

SUMMARY: This notice publishes the Tribal Council Ordinance No. 02-04 regulating the Sale and Consumption of Alcoholic Beverages for the Rumsey Indian Rancheria of Wintun Indians of California. The Ordinance regulates and controls the possession, sale and consumption at a gaming facility located on the Rancheria known as the Cache Creek Indian Bingo & Casino and related hotel (hereinafter, “Facility”). The sale of alcohol within the Facility, for on-Facility consumption only, is hereby authorized. No alcoholic beverages may be sold at any location pursuant to this Ordinance other than within the Facility. The Rumsey Indian Rancheria Tribal Council enacted Tribal Council Resolution No. 09-24-02-02, on September 24, 2002, to authorize the enactment of the Ordinance. Ordinance No. 02-04, was adopted on September 24, 2002, but does not become effective until published in the Federal Register because the failure to comply with the Ordinance may result in criminal charges.

EFFECTIVE DATE: This Ordinance is effective on May 19, 2003.

FOR FURTHER INFORMATION CONTACT: Iris Drew, Southwest Regional Office, Branch of Tribal Government, PO Box 26567, Albuquerque, New Mexico 87125-6567; Telephone (505) 346-7592 or Ralph Gonzales, Office of Tribal Services, 1951 Constitution Ave., NW., MS-320-SIB, Washington, DC 20240; Telephone (202) 513-7629.

SUPPLEMENTARY INFORMATION: Pursuant to the Act of August 15, 1953, Public Law 83-277, 67 Stat. 586, 18 U.S.C. 1161, as interpreted by the Supreme Court in Rice v. Rehner, 463 U.S.713 (1983), the Secretary of the Interior shall certify and publish in the Federal Register notice of adopted liquor ordinances for the purpose of regulating liquor transactions in Indian country. The Rumsey Indian Rancheria of Wintun Indians of California enacted Tribal Council Ordinance No. 02-04, on September 24, 2002, for the purpose of governing the sale and consumption of alcoholic beverages only at its Indian gaming facility on tribal trust lands, known as the Cache Creek Indian Bingo & Casino and related hotel (“Facility”). The Rumsey Indian Rancheria has an existing liquor code to provide that the tribe, as owner and operator of a convenience store on the rancheria, will sell wine and beer for off-premises consumption only, published in the Federal Register on February 4, 1992 (57 FR 4314).

This notice is published in accordance with the authority delegated by the Secretary of the Interior to the Assistant Secretary—Indian Affairs by 209 Departmental Manual 8.1.

I certify that Tribal Council Ordinance No. 02-04, Sale and Consumption of Alcoholic Beverages at the gaming facility, located on tribal trust lands, known as the Cache Creek Indian Bingo & Casino and related hotel, was duly adopted by the Rumsey Indian Rancheria of Wintun Indians of California on September 24, 2002. The Ordinance was further authorized for enactment by Tribal Council Resolution No. 09-23-02-02, on September 24, 2002.

Dated: May 9, 2003.
Aurene M. Martin,
Acting Assistant Secretary—Indian Affairs.

Rumsey Indian Rancheria, Yolo County, California, Tribal Council Ordinance No. 02-04

Sale and Consumption of Alcoholic Beverages

The Tribal Council, governing body of the Rumsey Indian Rancheria of Wintun Indians of California (hereinafter “Tribe”), hereby enacts this Ordinance to govern the sale and consumption of alcoholic beverages at its Indian gaming facility and related hotel on Rancheria lands.

Preamble

1. Title 18, United States Code, Section 1161, provides Indian tribes with authority to enact ordinances governing the consumption and sale of alcoholic beverages on their Reservations, provided such ordinance is certified by the Secretary of the Interior, published in the Federal Register and such activities are in conformity with state law.

2. Pursuant to the Tribe's Constitution at Article 4 and Article 8 Section 1(i) and (j), the Tribal Council is the governing body of the Tribe with the power to enact ordinances to promote the general welfare of the Tribe and to plan and manage economic affairs of the Tribe.

3. The Tribe is and shall be the owner and operator of a gaming facility located on the Rancheria known as the Cache Creek Indian Bingo & Casino and related hotel (hereinafter “Facility”), at which Class III Gaming is conducted pursuant to the Tribe's Gaming Ordinance and a Compact executed with the State of California on September 10, 1999, ratified by the California Legislature, approved by the Secretary of the Interior on May 5, 2000, and published in the Federal Register on May 16, 2000.

4. The Facility, located on trust land, is an integral and indispensable part of the Tribe's economy, providing income to the Tribe and training and employment to its members.

5. The Facility includes restaurant and lounge areas in which food and beverages are served to patrons who may also desire to consume alcoholic beverages.

6. The Tribal Council has determined that it is now in its best interest to offer alcoholic beverages for sale and consumption at the Facility.

7. It is the purpose of this Ordinance to set out the terms and conditions under which the sale of said alcoholic beverages may take place.

General Terms

1. The sale of alcohol within the Facility, for on-Facility consumption only, is hereby authorized.

2. No alcoholic beverages may be sold at any location pursuant to this Ordinance other than within the Facility.

3. The sale of said alcoholic beverages authorized by this Ordinance shall be in conformity with all applicable laws of the State of California, and the sale of said beverages shall be subject to state sales tax, federal excise tax and any fees required by the Federal Bureau of Alcohol, Tobacco & Firearms. This includes but is not limited to the following examples:

a. No person under the age of 21 years shall consume, acquire or have in his or her possession at the Facility any alcoholic beverage.

b. No person shall sell alcohol to any person under the age of 21 at the Facility.

c. No person shall sell alcohol to a person apparently under the influence of liquor at the Facility.

4. Where there may be a question of a person's right to purchase liquor by reason of his or her age, such person shall be required to present any one of the following types of identification which shows his or her correct age and bears his or her signature and photograph: (1) Driver's license or identification card issued by any state Department of Motor Vehicles; (2) United States Active Duty Military card; (3) passport.

5. All liquor sales within the Facility shall be on a cash only basis and no credit shall be extended to any person, organization or entity, except that this provision does not prevent the use of major credit cards.

Posting

This Ordinance shall be conspicuously posted within the Facility at all times it is open to the public.

Enforcement

1. This Ordinance may be enforced by the Rumsey Tribal Gaming Agency by implementation of monetary fines not to exceed $500 and/or withdrawal of authorization to sell alcohol at the Facility. Prior to any enforcement action, the Rumsey Tribal Gaming Agency shall provide the alleged offender of this ordinance with at least three (3) days notice of an opportunity to be heard during a specially-called meeting. The decision of the Rumsey Tribal Gaming Agency shall be final.

2. This Ordinance also may be enforced by the Yolo County Sheriff's Office at the request of the Rumsey Tribal Gaming Agency.

Severability

If any provision or application of this ordinance is determined by review to be invalid, such adjudication shall not be held to render ineffectual the remaining portions of this title or to render such provisions inapplicable to other persons or circumstances.

Amendment

This ordinance may only be amended by a majority vote of the Tribal Council.

Sovereign Immunity

Nothing in this ordinance in any way limits, alters, restricts or waives the Tribe's sovereign immunity from unconsented suit or action.

Effective Date

This Ordinance shall become effective following its certification by the Secretary of the Interior and its publication in the Federal Register.

Certification

The foregoing ordinance was adopted by a vote of 5 for, and 0 against and 0 abstentions, at a duly called meeting of the Rumsey Indian Rancheria Tribal Council at which a quorum was present, on this 24th day of September 2002.

[FR Doc. 03-12406 Filed 5-16-03; 8:45 am]

BILLING CODE 4310-4J-P